DEPARTMENT OF ENERGY

Federal Energy Regulatory Commission

[Docket No. IC07-511-001, FERC-511]

Commission Information Collection Activities, Proposed Collection; Comment Request; Submitted for OMB Review

October 15, 2007.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of June 6, 2007 (72 FR 31304-05) and has made this notification in its submission to OMB.

DATES: Comments on the collection of information are due by November 20, 2007.

ADDRESSES: Address comments on the collection of information to the Office of Management and Budget, Office of Information and Regulatory Affairs, Attention: Federal Energy Regulatory Commission Desk Officer. Comments to OMB should be filed electronically, c/o oirasubmission@omb.eop.gov and include the OMB Control No. as a point of reference. The Desk Officer may be reached by telephone at (202) 395-7345. A copy of the comments should also be sent to the Federal Energy Regulatory Commission, Office of the Executive Director, ED-34, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC07-511-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at ferconlinesupport@ferc.gov, 202-502-6652 or toll-free at (866)208-3676, or for TTY, contact (202)502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-511 “Application for Transfer of License”.

2. Sponsor: Federal Energy Regulatory Commission.

3. Control No.: 1902-0069.

The Commission is now requesting that OMB approve and reinstate with a three-year extension of the expiration date, with no changes to the existing collection. The information filed with the Commission is mandatory.

4. Necessity of the Collection of Information: Submission of this information is necessary to enable the Commission to carry out its responsibilities in implementing the statutory provisions of sections 4(e) and 8 of the Federal Power Act (FPA). Section 4(e) authorizes the Commission to issue licenses for the construction, operation and maintenance of reservoirs, power houses and transmission lines or other facilities necessary for development and improvement of navigation and for the development, transmission, and utilization of power from bodies of water that Congress has jurisdiction over. Section 8 of the FPA provides that the voluntary transfer of any license can only be made with the written approval of the Commission. Any successor to the licensee may assign the rights of the original license but is subject to all of the conditions of the license.

The information filed with the Commission is a mandatory requirement contained in the format of a written application for transfer of license, executed jointly by the parties to the proposed transfer. The transfer of a license may be occasioned by the sale or merger of a licensed hydroelectric project. It is used by the Commission's staff to determine the qualifications of the proposed transferee to hold the license, and to prepare the transfer of the license order. The Commission implements these requirements in the Code of Federal Regulations (CFR) under 18 CFR Part 9 and 131.20.

5. Respondent Description: The respondent universe currently comprises 23 respondents (average) subject to the Commission's jurisdiction

6. Estimated Burden: 920 total hours, 23 respondents (average per year), 1 response per respondent, and 40 hours per response (average).

7. Estimated Cost Burden to respondents: 920 hours/2080 hours per years × $122,137 per year = $54,022. The cost per respondent is estimated to be on average $2,349.

Statutory Authority: Sections 4(e) and 8 of the Federal Power Act (16 U.S.C. 792-828c).

Kimberly D. Bose,
Secretary.

[FR Doc. E7-20883 Filed 10-23-07; 8:45 am]

BILLING CODE 6717-01-P